FEDERAL COMMUNICATIONS COMMISSION

47 CFR Part 76

[MM Docket No. 92-260; FCC 95-503]

Cable Home Wiring

AGENCY: Federal Communications Commission.

ACTION: Final rule; announcement of effective date.

SUMMARY: The Federal Communications Commission received Office of Management and Budget (OMB) approval for rules published at 61 FR 6131, February 16, 1996. Therefore, the Commission announces that 47 CFR 76.802 became effective on April 19, 1996. The delayed announcement of this approval was due to an administrative oversight.

DATES: The amendment to 47 CFR 76.802 published at 61 FR 6131, February 16, 1996, became effective on April 19, 1996.

SUPPLEMENTARY INFORMATION: The Federal Communications Commission has received OMB approval for the cable home wiring rule published at 61 FR 6131, February 16, 1996. Through this document, the Commission announces that it received this approval on April 19, 1996.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Cathy Williams, Federal Communications Commission, (202) 418-2918 or via the Internet at Cathy.Williams@fcc.gov.

Federal Communications Commission.
Marlene H. Dortch,
Secretary.

[FR Doc. 05-11909 Filed 6-21-05; 8:45 am]

BILLING CODE 6712-01-P